DEPARTMENT OF COMMERCE

National Oceanic and Atmospheric Administration

[RTID 0648-XD968]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and Executive Committee, including a joint session with the Atlantic States Marine Fisheries Commission (ASMFC) Summer Flounder, Scup, and Black Sea Bass Management Board.

DATES: The meetings will be held Tuesday, June 4 through Thursday, June 6, 2024. For agenda details, see SUPPLEMENTARY INFORMATION.

ADDRESSES: This meeting will be an in-person meeting with a virtual option. Council members, other meeting participants, and members of the public will have the option to participate in person at Atlantis Banquets and Events, 431 E Main Street Riverhead, NY 11901, or virtually via Webex webinar. Webinar connection instructions and briefing materials will be available at: https://www.mafmc.org/briefing/june-2024.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Tuesday, June 4, 2024

Executive Committee—Closed Session

Recommend Advisory Panel appointments

——— LUNCH ———

Executive Committee—Open Session

2025-2029 Strategic Plan: Discuss Vision, Mission, and Goals

Summer Flounder Mesh Exemptions Framework/Addendum (Joint With ASMFC Summer Flounder, Scup, Black Sea Bass Board)

Consider addition of alternatives to revise Small Mesh Exemption Program review trigger

Review additional analysis and revised action plan

Wednesday, June 5, 2024

Atlantic Surfclam and Ocean Quahog Species Separation Requirements Amendment

Review summary from hearing/public comment period

Select Council preferred alternative and take final action

——— LUNCH ———

2025 Chub Mackerel Specifications

Review recommendations from the Advisory Panel, SSC, Monitoring Committee, and staff

Review previously adopted 2025 specifications and management measures, and recommend changes if necessary

2025 Longfin Squid Specifications

Review recommendations from the Advisory Panel, SSC, Monitoring Committee, and staff

Review previously adopted 2025 specifications and management measures, and recommend changes if necessary

2025 Illex Squid Specifications

Review recommendations from the Advisory Panel, SSC, Monitoring Committee, and staff

Review previously adopted 2025 specifications and management measures, and recommend changes if necessary

Unmanaged Commercial Landings Report

Review EOP Advisory Panel and Committee input

Review report and provide feedback

SSC's Overfishing Limit (OFL) Coefficient of Variation (CV) Guidance Document

Review and approve updates

Acknowledgment of Outgoing Council Members

Thursday, June 6, 2024

Business Session

Committee Reports (SSC); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aid should be directed to Shelley Spedden, (302) 526-5251, at least 5 days prior to the meeting date.

Authority: 16 U.S.C. 1801 et seq.

Dated: May 14, 2024.
Rey Israel Marquez,
Acting Deputy Director, Office of Sustainable Fisheries, National Marine Fisheries Service.

[FR Doc. 2024-10853 Filed 5-16-24; 8:45 am]

BILLING CODE 3510-22-P